DEPARTMENT OF COMMERCE

National Oceanic and Atmospheric Administration

50 CFR Part 648

RIN 0648-BF86

Fisheries of the Northeastern United States; Amendment 6 to the Tilefish Fishery Management Plan

AGENCY: National Marine Fisheries Service (NMFS), National Oceanic and Atmospheric Administration (NOAA), Commerce.

ACTION: Notice of availability; request for comments.

SUMMARY: NMFS announces that the Mid-Atlantic Fishery Management Council has submitted Amendment 6 to the Tilefish Fishery Management Plan for review and approval by the Secretary of Commerce. We are requesting comments from the public on the amendment. Amendment 6 would establish management measures for the blueline tilefish fishery north of the Virginia/North Carolina border, including: Permitting, recordkeeping, and reporting requirements; trip limits for both the commercial and recreational sectors of the fishery; and the process for setting specifications and annual catch limits. In addition, this action would set 2017 harvest limits.

DATES: Comments must be received on or before August 14, 2017.

ADDRESSES: You may submit comments, identified by NOAA-NMFS-2016-0025, by either of the following methods:

• Electronic Submissions: Submit all electronic public comments via the Federal e-Rulemaking Portal. Go to www.regulations.gov/#!docketDetail;D=NOAA-NMFS-2016-0025, click the “Comment Now!” icon, complete the required fields, and enter or attach your comments.

• Mail: John K. Bullard, Regional Administrator, NMFS, Greater Atlantic Regional Fisheries Office, 55 Great Republic Drive, Gloucester, MA 01930. Mark the outside of the envelope: “Comments on Blueline Tilefish Amendment.”

Instructions: Comments sent by any other method, to any other address or individual, or received after the end of the comment period, may not be considered by NMFS. All comments received are part of the public record and will generally be posted to www.regulations.gov without change. All personal identifying information (e.g., name, address, etc.) voluntarily submitted by the commenter may be publicly accessible. Do not submit confidential business information or otherwise sensitive or protected information.

NMFS will accept anonymous comments. Attachments to electronic comments will be accepted via Microsoft Word, Microsoft Excel, WordPerfect, or Adobe PDF file formats only.

Copies of Amendment 6, and of the draft Environmental Assessment and preliminary Regulatory Impact Review (EA/RIR), are available from the Mid-Atlantic Fishery Management Council, 800 North State Street, Suite 201, Dover, DE 19901. The EA/RIR is also accessible via the Internet at: www.greateratlantic.fisheries.noaa.gov.

FOR FURTHER INFORMATION CONTACT: Douglas Potts, Fishery Policy Analyst, 978-281-9341.

SUPPLEMENTARY INFORMATION: We are soliciting public comments on Amendment 6 and its incorporated documents through the end of the comment period stated in this notice of availability. We will publish a proposed rule in the Federal Register that would implement the amendment's management measures for additional public comment, following NMFS's evaluation of the proposed rule under the procedures of the Magnuson-Stevens Fishery Conservation and Management Act. Public comments on the proposed rule must be received by the end of the comment period provided in this notice of availability to be considered in the approval/disapproval decision on the amendment. All comments received by August 14, 2017, whether specifically directed to the amendment or the proposed rule will be considered in the approval/disapproval decision on the amendment. To be considered, comments must be received by close of business on the last day of the comment period. Comments received after that date will not be considered in the decision to approve or disapprove Amendment 6, including those postmarked or otherwise transmitted by the last day of the comment period.

The Mid-Atlantic Fishery Management Council developed this amendment to establish management measures for the blueline tilefish fishery north of the Virginia/North Carolina border. This proposed action would establish the management framework for this fishery including: Permitting, recordkeeping, and reporting requirements; trip limits for both the commercial and recreational sectors of the fishery; and the process for setting specifications and annual catch limits. In addition, this action would set harvest quotas and commercial and recreational management measures for the 2017 fishing year. Additional details of the proposed measures are available in the amendment document and the proposed rule.

Authority: 16 U.S.C. 1801 et seq.

Dated: June 9, 2017.
Margo B. Schulze-Haugen,
Acting Deputy Director, Office of Sustainable Fisheries, National Marine Fisheries Service.

[FR Doc. 2017-12307 Filed 6-13-17; 8:45 am]

BILLING CODE 3510-22-P